DEPARTMENT OF ENERGY

Federal Energy Regulatory Commission

Combined Notice of Filings #1

Take notice that the Commission received the following electric rate filings:

Docket Numbers: ER21-483-001.

Applicants: Southwest Power Pool, Inc.

Description: Tariff Amendment: 3620R1 Kansas City Board of Public Utilities NITSA NOA to be effective 9/1/2020.

Filed Date: 1/13/21.

Accession Number: 20210113-5119.

Comments Due: 5 p.m. ET 2/3/21.

Docket Numbers: ER16-632-010.

Applicants: Blythe Solar II, LLC.

Description: Notice of Change in Status of Blythe Solar II, LLC.

Filed Date: 1/12/21.

Accession Number: 20210112-5188.

Comments Due: 5 p.m. ET 2/2/21.

Docket Numbers: ER21-534-001.

Applicants: Southwest Power Pool, Inc.

Description: Tariff Amendment: 1978R9 Evergy Kansas Central, Inc. NITSA NOA—Toronto to be effective 9/1/2020.

Filed Date: 1/13/21.

Accession Number: 20210113-5016.

Comments Due: 5 p.m. ET 2/3/21.

Docket Numbers: ER21-543-001.

Applicants: Southwest Power Pool, Inc.

Description: Tariff Amendment: 2066R9 Evergy Kansas Central, Inc. NITSA NOA—Muscotah to be effective 9/1/2020.

Filed Date: 1/13/21.

Accession Number: 20210113-5020.

Comments Due: 5 p.m. ET 2/3/21.

Docket Numbers: ER21-544-001.

Applicants: Southwest Power Pool, Inc.

Description: Tariff Amendment: 2491R8 Evergy Kansas Central, Inc. NITSA NOA—Scranton to be effective 9/1/2020.

Filed Date: 1/13/21.

Accession Number: 20210113-5030.

Comments Due: 5 p.m. ET 2/3/21.

Docket Numbers: ER21-868-000.

Applicants: Duke Energy Carolinas, LLC.

Description: § 205(d) Rate Filing: DEC-Lockhart NITSA SA No. 407 to be effective 1/1/2021.

Filed Date: 1/12/21.

Accession Number: 20210112-5168.

Comments Due: 5 p.m. ET 2/2/21.

Docket Numbers: ER21-869-000.

Applicants: Michigan Electric Transmission Company, LLC.

Description: § 205(d) Rate Filing: Filing of a Joint Use Pole Agreement to be effective 3/15/2021.

Filed Date: 1/12/21.

Accession Number: 20210112-5169.

Comments Due: 5 p.m. ET 2/2/21.

Docket Numbers: ER21-870-000.

Applicants: Duke Energy Carolinas, LLC.

Description: § 205(d) Rate Filing: DEC-NCEMC Reimbursement Agreement RS No. 564 to be effective 3/14/2021.

Filed Date: 1/12/21.

Accession Number: 20210112-5179.

Comments Due: 5 p.m. ET 2/2/21.

Docket Numbers: ER21-871-000.

Applicants: Northern Indiana Public Service Company LLC, Indiana Crossroads Wind Farm LLC.

Description: Request for Authorization to Undertake Affiliate Sales of Northern Indiana Public Service Company LLC, et al.

Filed Date: 1/12/21.

Accession Number: 20210112-5185.

Comments Due: 5 p.m. ET 2/2/21.

Docket Numbers: ER21-872-000.

Applicants: Southwest Power Pool, Inc.

Description: § 205(d) Rate Filing: 3758 East River Electric & City of Pierre, SD Inter Agr to be effective 12/31/9998.

Filed Date: 1/13/21.

Accession Number: 20210113-5000.

Comments Due: 5 p.m. ET 2/3/21.

Docket Numbers: ER21-873-000.

Applicants: PJM Interconnection, L.L.C.

Description: § 205(d) Rate Filing: Amendment to ISA, SA #3836; Queue #Z1-050; Request for Expedited Comment Period to be effective 4/30/2014.

Filed Date: 1/13/21.

Accession Number: 20210113-5047.

Comments Due: 5 p.m. ET 2/3/21.

Docket Numbers: ER21-874-000.

Applicants: Louisville Gas and Electric Company.

Description: § 205(d) Rate Filing: LGE and KU Amended and Restated BREC IA to be effective 12/31/2020.

Filed Date: 1/13/21.

Accession Number: 20210113-5062.

Comments Due: 5 p.m. ET 2/3/21.

Docket Numbers: ER21-875-000.

Applicants: Kentucky Utilities Company.

Description: § 205(d) Rate Filing: LGE and KU Amended and Restated BREC IA_KU Concurrence to be effective 12/31/2020.

Filed Date: 1/13/21.

Accession Number: 20210113-5070.

Comments Due: 5 p.m. ET 2/3/21.

Docket Numbers: ER21-876-000.

Applicants: Kentucky Utilities Company.

Description: Tariff Cancellation: Cancellation of KU Rate Schedule FERC No. 405 to be effective 12/31/2020.

Filed Date: 1/13/21.

Accession Number: 20210113-5072.

Comments Due: 5 p.m. ET 2/3/21.

Docket Numbers: ER21-877-000.

Applicants: PacifiCorp.

Description: § 205(d) Rate Filing: BPA NITSA (OR Wind) to be effective 12/15/2020.

Filed Date: 1/13/21.

Accession Number: 20210113-5092.

Comments Due: 5 p.m. ET 2/3/21.

Docket Numbers: ER21-878-000.

Applicants: Pacific Gas and Electric Company.

Description: § 205(d) Rate Filing: E&P Agreement for Oakland Energy Storage 1, LLC to be effective 1/14/2021.

Filed Date: 1/13/21.

Accession Number: 20210113-5114.

Comments Due: 5 p.m. ET 2/3/21.

Docket Numbers: ER21-879-000.

Applicants: Public Service Company of Colorado.

Description: § 205(d) Rate Filing: 2021-1-13 PSC-HLYCRS-SISA-Orchard Mesa-621-0.0.0 to be effective 1/14/2021.

Filed Date: 1/13/21.

Accession Number: 20210113-5122.

Comments Due: 5 p.m. ET 2/3/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2021.
Nathaniel J. Davis, Sr.,
Deputy Secretary.

[FR Doc. 2021-01180 Filed 1-19-21; 8:45 am]

BILLING CODE 6717-01-P